DEPARTMENT OF THE INTERIOR

Bureau of Land Management

[LLNML00000 L12200000.DF0000 15XL1109AF]

Notice of Public Meeting, Las Cruces District Resource Advisory Council Meeting, New Mexico

AGENCY: Bureau of Land Management, Interior.

ACTION: Notice of public meeting.

SUMMARY: In accordance with the Federal Land Policy and Management Act and the Federal Advisory Committee Act, the Bureau of Land Management's (BLM), Las Cruces District Resource Advisory Council (RAC) will meet as indicated below.

DATES: The RAC will meet on April 22, 2015, at the BLM Las Cruces District Office, 1800 Marquess Street, Las Cruces, New Mexico from 9 a.m.-4 p.m. The public may send written comments to the RAC at the BLM Las Cruces District Office, 1800 Marquess Street, Las Cruces, NM 88005.

FOR FURTHER INFORMATION CONTACT: Rena Gutierrez, BLM Las Cruces District, 1800 Marquess Street, Las Cruces, NM 88005, 575-525-4338. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member Las Cruces District RAC advises the Secretary of the Interior, through the BLM, on a variety of planning and management issues associated with public land management in New Mexico. Planned agenda items include a welcome and introduction of new Council members, and presentations and discussions related to the new Organ Mountains-Desert Peaks National Monument; the Dripping Springs/Baylor Road improvement project, the Prehistoric Trackways National Monument Proposed Plan/Final Environmental Impact Statement; areas of critical environmental concern relevance and importance criteria; and issues related to the Gila River area.

A half-hour public comment period during which the public may address the RAC is scheduled to begin at 2:30 p.m. All RAC meetings are open to the public. Depending on the number of individuals wishing to comment and time available, the time for individual oral comments may be limited.

Melanie Barnes,
Acting Deputy State Director, Lands and Resources.

[FR Doc. 2015-06669 Filed 3-23-15; 8:45 am]

BILLING CODE 4310-FB-P